DEPARTMENT OF TRANSPORTATION

Surface Transportation Board

[Docket No. MCF 21049]

Academy Express, L.L.C.—Acquisition of Property—Golden Ring Travel & Transportation, Inc.

AGENCY: Surface Transportation Board, DOT.

ACTION: Notice Tentatively Authorizing Finance Transaction.

SUMMARY: On January 10, 2013, Academy Express, L.L.C. (Academy), a motor carrier of passengers, filed an application for authority under 49 U.S.C. 14303 to acquire the property of Golden Ring Travel & Transportation, Inc. (Golden Ring), also a motor carrier of passengers. The Board is tentatively approving and authorizing the transaction, and, if no opposing comments are timely filed, this notice will be the final Board action. Persons wishing to oppose the application must follow the rules set forth at 49 CFR 1182.5 and 1182.8.

DATES: Comments must be filed by March 25, 2013. Academy may file a reply by April 9, 2013. If no comments are filed by March 25, 2013, this notice shall be effective on March 26, 2013.

ADDRESSES: Send an original and 10 copies of any comments referring to Docket No. MCF 21049 to: Surface Transportation Board, 395 E Street SW., Washington, DC 20423-0001. In addition, send copies of comments to Academy's representative: Fritz R. Kahn, Fritz R. Kahn, P.C., 1919 M Street NW., 7th Floor, Washington, DC 20036.

FOR FURTHER INFORMATION CONTACT: Scott M. Zimmerman, (202) 245-0386. Federal Information Relay Service (FIRS) for the hearing impaired: 1-800-877-8339.

SUPPLEMENTARY INFORMATION: Academy (MC-413682) is a motor carrier of passengers principally providing charter bus and contract carrier services, with a fleet of approximately 400 motor coaches and more than 500 drivers. Academy is indirectly controlled by the Tedesco Family ESB Trust, which also indirectly controls Academy Lines, L.L.C., a motor carrier of passengers principally rendering commuter operations, and No. 22 Hillside, L.L.C., a motor carrier of passengers rendering a variety of services. Golden Ring (MC-233098) is a motor carrier of passengers principally providing special and charter operations and has no affiliates.

Under the proposed transaction, Academy seeks permission to acquire the properties of Golden Ring—namely, three motor coaches, customer lists, and goodwill, as well as Golden Ring's authority to render intrastate motor carrier operations in Maryland. According to the application, Golden Ring would surrender its interstate operating authority and cease operating as an interstate motor carrier of passengers on the effective date of the property acquisition.

Under 49 U.S.C. 14303(b), the Board must approve and authorize a transaction that it finds consistent with the public interest, taking into consideration at least: (1) The effect of the proposed transaction on the adequacy of transportation to the public; (2) the total fixed charges that result; and (3) the interest of affected carrier employees. Academy has submitted information, as required by 49 CFR 1182.2, including the information to demonstrate that the proposed transaction is consistent with the public interest under 49 U.S.C. 14303(b), and a statement that Academy's gross operating revenue for the preceding 12 months exceeded $2 million, see 49 U.S.C. 14303(g).

With respect to the effect of the transaction on the adequacy of transportation to the public, Academy states that the proposed acquisition would greatly benefit Golden Ring's patrons. According to Academy, passengers would be able to travel in newer buses and would have a far greater selection of tours and special operations than was previously afforded to them. Academy states that the separate management functions of the two companies would be integrated and the purchases of fuel and other supplies would be combined, thereby lowering the operating costs and rendering the operations formerly conducted by Golden Ring more competitive. Academy further states that the proposed transaction would have no effect on total fixed charges. Academy states that the transaction would have no adverse effect upon the majority of Golden Ring's employees, as most of these employees would retain their jobs.

On the basis of the application, the Board finds that the proposed acquisition is consistent with the public interest and should be tentatively approved and authorized. If any opposing comments are filed by March 25, 2013, these findings will be deemed vacated, and, unless a final decision can be made on the record as developed, a procedural schedule will be adopted to reconsider the application. See 49 CFR 1182.6(c). If no opposing comments are filed by the expiration of the comment period, this notice will take effect automatically and will be the final Board action.

Board decisions and notices are available on our Web site at www.stb.dot.gov.

This decision will not significantly affect either the quality of the human environment or the conservation of energy resources.

It is ordered:

1. The proposed transaction is approved and authorized, subject to the filing of opposing comments.

2. If opposing comments are timely filed, the findings made in this notice will be deemed vacated.

3. This notice will be effective March 26, 2013, unless opposing comments are timely filed by March 25, 2013.

4. A copy of this notice will be served on: (1) U.S. Department of Transportation, Federal Motor Carrier Safety Administration, 1200 New Jersey Avenue SE., Washington, DC 20590; (2) the U.S. Department of Justice, Antitrust Division, 10th Street & Pennsylvania Avenue NW., Washington, DC 20530; and (3) the U.S. Department of Transportation, Office of the General Counsel, 1200 New Jersey Avenue SE., Washington, DC 20590.

Decided: February 4, 2013.
By the Board, Chairman Elliott, Vice Chairman Begeman, and Commissioner Mulvey.
Raina S. White,
Clearance Clerk.

[FR Doc. 2013-02890 Filed 2-7-13; 8:45 am]

BILLING CODE 4915-01-P